DEPARTMENT OF HOMELAND SECURITY

[Docket No. CISA-2023-0005]

Notice of Cybersecurity and Infrastructure Security Agency Cybersecurity Advisory Committee Meeting

AGENCY: Cybersecurity and Infrastructure Security Agency (CISA), Department of Homeland Security (DHS).

ACTION: Notice of Federal Advisory Committee Act (FACA) meeting; request for comments.

SUMMARY: CISA is publishing this notice to announce the CISA Cybersecurity Advisory Committee (CSAC) Quarterly Meeting will meet virtually on Wednesday, September 13, 2023. This meeting will be partially closed to the public. Members of the public may join the public portion of the meeting by teleconference.

DATES:

Meeting Registration: Registration to attend the meeting is required and must be received no later than 5:00 p.m. Eastern Daylight Time (EDT) on September 11, 2023.

Speaker Registration: Registration to speak during the meeting's public comment period must be received no later than 5:00 p.m. EDT on September 11, 2023.

Written Comments: Written comments must be received no later than 5:00 p.m. EDT on September 11, 2023.

Meeting Date: The CSAC will meet virtually on September 13, 2023, from 12:00 p.m. to 4:00 p.m. EDT. The meeting may close early if the Committee has completed its business.

ADDRESSES: The CSAC's meeting will be open to the public, per 41 CFR 102-3.150 and will be held virtually. Members of the public may participate via teleconference only. For access to the conference call bridge, information on services for individuals with disabilities, or to request special assistance, please email CISA_CybersecurityAdvisoryCommittee@cisa.dhs.gov by 5:00 p.m. EDT September 11, 2023. The CSAC is committed to ensuring all participants have equal access regardless of disability status. If you require a reasonable accommodation due to a disability to fully participate, please contact Ms. Megan Tsuyi at (202) 594-7374 as soon as possible.

Comments: Members of the public are invited to provide comments on issues that will be considered by the committee as listed in the SUPPLEMENTARY INFORMATION section below. Associated materials that may be discussed during the meeting will be made available for review at https://www.cisa.gov/cisa-cybersecurity-advisory-committee-meeting-resources by September 11, 2023. Comments should be submitted by 5:00 p.m. EDT on September 11, 2023 and must be identified by Docket Number CISA-2023-0005. Comments may be submitted by one of the following methods:

• Federal eRulemaking Portal: www.regulations.gov. Please follow the instructions for submitting written comments.

• Email: CISA_CybersecurityAdvisoryCommittee@cisa.dhs.gov. Include the Docket Number CISA-2023-0005 in the subject line of the email.

Instructions: All submissions received must include the words “Cybersecurity and Infrastructure Security Agency” and the Docket Number for this action. Comments received will be posted without alteration to www.regulations.gov, including any personal information provided. You may wish to review the Privacy & Security notice available via a link on the homepage of www.regulations.gov.

Docket: For access to the docket and comments received by the CSAC, please go to www.regulations.gov and enter docket number CISA-2023-0005.

A public comment period is scheduled to be held during the meeting from 2:05 p.m. to 2:15 p.m. EDT. Speakers who wish to participate in the public comment period must email CISA_CybersecurityAdvisoryCommittee@cisa.dhs.gov to register. Speakers should limit their comments to 3 minutes and will speak in order of registration. Please note that the public comment period may end before the time indicated, depending on the number of speakers who register to participate.

FOR FURTHER INFORMATION CONTACT: Megan Tsuyi, 202-594-7374, CISA_CybersecurityAdvisoryCommittee@cisa.dhs.gov.

SUPPLEMENTARY INFORMATION: The CSAC was established under the National Defense Authorization Act for Fiscal Year 2021, Public Law 116-283. Notice of this meeting is given under FACA, 5 U.S.C. Ch.10 (Pub. L. 117-286). The CSAC advises the CISA Director on matters related to the development, refinement, and implementation of policies, programs, planning, and training pertaining to the cybersecurity mission of the Agency.

Agenda: The CSAC will hold a virtual meeting on Wednesday, September 13, 2023, from 12:00 p.m. to 4:00 p.m. EDT to discuss current CSAC activities and vote on recommendations to present to the CISA Director. The open session will last from 2:00 p.m. to 4:00 p.m. EDT and will include: (1) a public comment period and (2) a discussion on subcommittee updates and deliberation on vote.

The Committee will also meet in a closed session from 12:00 p.m. to 2:00 p.m. EDT to participate in an operational discussion that will address areas of critical cybersecurity vulnerabilities and priorities for CISA. Government officials will share sensitive information with CSAC members on initiatives and future security requirements for assessing cyber risks to critical infrastructure.

Basis for Closure: In accordance with section 10(d) of FACA and 5 U.S.C. 552b(c)(9)(B), The Government in the Sunshine Act, it has been determined that certain agenda items require closure, as the premature disclosure of the information that will be discussed would be likely to significantly frustrate implementation of proposed agency actions.

This agenda item addresses areas of CISA's operations that include critical cybersecurity vulnerabilities and priorities for CISA. Government officials will share sensitive information with CSAC members on initiatives and future security requirements for assessing cyber risks to critical infrastructure.

As the premature disclosure of the information that will be discussed would be likely to significantly frustrate implementation of proposed agency action, this portion of the meeting is required to be closed pursuant to section 10(d) of FACA and 5 U.S.C. 552b(c)(9)(B).

Megan M. Tsuyi,
Designated Federal Officer, CISA Cybersecurity Advisory Committee, Cybersecurity and Infrastructure Security Agency, Department of Homeland Security.

[FR Doc. 2023-17736 Filed 8-16-23; 8:45 am]

BILLING CODE 9110-9P-P